DEPARTMENT OF AGRICULTURE

Agricultural Marketing Service

[Doc. No. AMS-FV-14-0017]

Christmas Tree Promotion, Research, and Information Order; Request for Reinstatement of a Previously Approved Information Collection for Which Approval has Expired

AGENCY: Agricultural Marketing Service, USDA.

ACTION: Notice and request for comments.

SUMMARY: In accordance with the Paperwork Reduction Act of 1995 (44 U.S.C. Chapter 35), this document announces the Agricultural Marketing Service's (AMS) intention to request reinstatement of a previously approved information collection from the Office of Management and Budget (OMB), for which approval has expired for the Christmas Tree Promotion, Research, and Information Program (Order). In addition, to the Order, we are including the burden and ballot form from a previously approved information collection that expired, titled Referendum for Christmas Tree Promotion, Research and Information Program.

DATES: Comments must be received by June 6, 2014.

ADDRESSES: Interested persons are invited to submit comments concerning this notice. Comments should be submitted online at www.regulations.gov or sent to the Promotion and Economics Division, Fruit and Vegetable Program, AMS, U.S. Department of Agriculture (USDA), 1400 Independence Avenue SW., Stop 0244, Room 1406-S, Washington, DC 20250-0244, or by facsimile to (202) 205-2800. All comments should reference the document number, the date and page number of this issue of the Federal Register. All comments received will be posted without change, including any personal information provided, online at http://www.regulations.gov and will be made available for public inspection at the above physical address during regular business hours.

FOR FURTHER INFORMATION CONTACT: Marlene Betts at the above address, by telephone at (202) 720-9915, or by email at Marlene.Betts@ams.usda.gov.

SUPPLEMENTARY INFORMATION: Title: Christmas Tree Promotion, Research, and Information Program (Order).

OMB Number: 0581-0268.

Expiration Date of Approval: December 31, 2013.

Type of Request: Reinstatement of a previously approved collection for which approval has expired.

Abstract: The Order, which was established through the publication of a final rule on November 8, 2011 (76 FR 69094), was created to help strengthen the position of Christmas trees in the marketplace, and maintain, develop, and expand markets for Christmas trees in the United States. The Order is authorized under the Commodity Promotion, Research, and Information Act of 1996 (1996 Act) (7 U.S.C. 7411-7425). On November 17, 2011, a final rule was published that stayed indefinitely the regulations establishing the Order (76 FR 71241) to provide additional time for USDA to reach out to the Christmas tree industry and the public to explain how a research and promotion program is a producer driven program to support American farmers.

The stay is being lifted in accordance with the provisions of the Agriculture Act of 2014 (2014 Farm Bill), and the Christmas tree program will be administered by the Christmas Tree Promotion Board (Board) appointed by the Secretary of Agriculture and financed by a mandatory assessment on producers and importers of fresh cut Christmas trees. The assessment rate will be $0.15 per Christmas tree cut and sold domestically or imported into the United States. The program will provide for an exemption for producers and importers that cut and sell or import fewer than 500 Christmas trees annually. A referendum will be held among eligible producers and importers to determine whether they favor continuation of the program three years after assessments first begin.

The information collection requirements in this request are essential to carry out the intent of the Order when the stay is lifted under the authority of the 2014 Farm Bill. Section 10014 of the Farm Bill states that not later than 60 days after the date of the enactment of the 2014 Farm Bill, the Secretary of Agriculture shall lift the administrative stay that was imposed and published in the Federal Register on November 17, 2011.

The Order's provisions have been carefully reviewed, and every effort has been made to minimize any unnecessary recordkeeping costs or requirements, including efforts to utilize information already submitted under other Christmas tree programs administered by USDA and other State programs.

The forms covered under this collection require the minimum information necessary to effectively carry out the requirements of the program, and their use is necessary to fulfill the intent of the Order. Such information can be supplied without data processing equipment or outside technical expertise. In addition, there are no additional training requirements for individuals filling out reports and remitting assessments to the Board. The forms are simple, easy to understand, and place as small a burden as possible on the person required to file the information.

Collecting information yearly would coincide with normal industry business practices. The timing and frequency of collecting information are intended to meet the needs of the industry while minimizing the amount of work necessary to fill out the required reports. The requirement to keep records for two years beyond the fiscal period of their applicability is consistent with normal industry practices. In addition, the information to be included on these forms is not available from other sources because such information relates specifically to individual producers and importers who will be subject to the provisions of the Order. Therefore, there is no practical method for collecting the required information without the use of these forms.

AMS is committed to complying with the E-Government Act, which requires Government agencies in general to provide the public the option of submitting information or transacting business electronically to the maximum extent possible.

In addition to the information collection Christmas Tree Promotion, Research and Information Program (Order) (OMB No. 0581-0268), we are including the burden and ballot form from the previously approved information collection Referendum for Christmas Tree Promotion, Research and Information Program (OMB No. 0581-0267). Upon reinstatement of these previously approved collection for which approval has expired, we will submit a discontinuation request for the 0581-0267 to OMB.

Estimate of Burden: Public recordkeeping burden for this collection of information is estimated to average 0.398 hour per response.

Respondents: Producers and importers.

Estimated Number of Respondents: 12,455.

Estimated Total Annual Responses: 26,885.

Estimated Number of Responses per Respondent: 2.16.

Estimated Total Annual Burden on Respondents: 10,701 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Authority: 44 U.S.C. Chapter 35.

Dated: April 2, 2014.
Rex A. Barnes,
Associate Administrator.

[FR Doc. 2014-07706 Filed 4-4-14; 8:45 am]

BILLING CODE 3410-02-P